DEPARTMENT OF STATE

[Public Notice 5175 ]

30-Day Notice of Proposed Information Collection: DS Form 4502, Fulbright Teacher Exchange Program Application Package, OMB Control No. 1405-0114

ACTION: Notice of request for public comments and submission to OMB of proposed collection of information.

SUMMARY: The Department of State has submitted the following information collection request to the Office of Management and Budget (OMB) for approval in accordance with the Paperwork Reduction Act of 1995.

• Title of Information Collection: Fulbright Teacher Exchange Program Application Package.

• OMB Control Number: 1405-0114.

• Type of Request: Extension of a currently approved collection.

• Originating Office: Office of Global Educational Programs (ECA/A/S).

• Form Numbers: DS-4502.

• Respondents: Educators desiring to participate in the Fulbright Teacher Exchange Program.

• Estimated Number of Respondents: 950.

• Estimated Number of Responses: 950.

• Average Hours Per Response: 3.

• Total Estimated Burden: 2850.

• Frequency: On occasion.

• Obligation to Respond: Required to obtain or retain a benefit.

DATES: The Department will accept comments from the public up to 30 days from August 26, 2005.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Public comments, or requests for additional information, regarding the collection listed in this notice should be directed to Jennifer Gibson, Branch Chief, or Ruta Chagnon, Program Officer (ECA/A/S/X); Department of State, SA-44, Room 349, 301 Fourth Street, SW., Washington, DC 20547, who may be reached at 202-619-4555/6.

SUPPLEMENTARY INFORMATION: We are soliciting public comments to permit the agency to:

• Evaluate whether the proposed information collection is necessary for the proper performance our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Under the Mutual Educational and Cultural Exchange (Fulbright-Hays) Act of 1961, as amended, the Fulbright Teacher Exchange Program offers six-week, semester, and academic-year exchanges and seminar opportunities to U.S. educators. The data collected is used to determine whether prospective candidates are qualified for participation in the program.

Methodology: Applicants submit either a paper or electronic application to ECA. The receiving office inputs the data into a database for retention and program use as appropriate.

Dated: July 17, 2005.
Cathy Chikes,
Executive Director, Office of Global Educational Programs, Department of State.

[FR Doc. 05-17023 Filed 8-25-05; 8:45 am]

BILLING CODE 4710-05-P